ENVIRONMENTAL PROTECTION AGENCY

40 CFR Part 52

[EPA-R03-OAR-2023-0104; FRL10907-03-R3]

Air Plan Approval; Virginia; Startup, Shutdown, and Malfunction Amendments to Facility and Control Equipment Maintenance or Malfunction Regulations; Correction

AGENCY: Environmental Protection Agency (EPA).

ACTION: Final rule; correction.

SUMMARY: On June 22, 2023, the Environmental Protection Agency (EPA) published a final rule in the Federal Register approving revisions to the Commonwealth of Virginia state implementation plan (SIP). In that rule, the EPA inadvertently included erroneous amendatory instructions codifying the approved SIP amendment to be incorporated by reference (IBR) for Article 57: Emission Standards for Industrial Solvent Cleaning Operations in the Northern Virginia Volatile Organic Compound Emissions Control Area, 8-hour Ozone Standard (Rule 4-57). This document corrects the errors in the final rule's amendatory instruction and table entry.

DATES: This correction is effective July 24, 2023.

ADDRESSES: EPA has established a docket for this action under Docket ID Number EPA-R03-OAR-2023-0104. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Sean Silverman, Planning & Implementation Branch (3AD30), Air & Radiation Division, U.S. Environmental Protection Agency, Region III, 1600 John F Kennedy Boulevard, Philadelphia, Pennsylvania 19103. The telephone number is (215) 814-5511. Mr. Silverman can also be reached via electronic mail at silverman.sean@epa.gov.

SUPPLEMENTARY INFORMATION: In our final rule published June 22, 2023 (88 FR 40715), effective July 24, 2023, the EPA inadvertently included errors in amendatory instructions that codified the approved SIP amendment to be incorporated by reference for Article 57: Emission Standards for Industrial Solvent Cleaning Operations in the Northern Virginia Volatile Organic Compound Emissions Control Area, 8-hour Ozone Standard (Rule 4-57). The June 22, 2023 publication states that the entry “8-40-8640” is being added. The correct entry added should be “5-40-8640.”

Correction

In FR Doc. 2023-13147, published at 88 FR 40715 in the Federal Register on Thursday June 22, 2023, the following corrections are made:

Subpart VV—Virginia

§ 52.2420 [Corrected]

1. On page 40718, in the second column, in amendment 2.d. for § 52.2420, the instruction “Adding the entry “8-40-8640” in numerical order under the heading “Article 57. Emission Standards for Industrial Solvent Cleaning Operations in the Northern Virginia Volatile Organic Compound Emissions Control Area, 8-hour Ozone Standard (Rule 4- 57)” ” is corrected to read “Adding the entry “5-40-8640” in numerical order under the heading “Article 57. Emission Standards for Industrial Solvent Cleaning Operations in the Northern Virginia Volatile Organic Compound Emissions Control Area, 8-hour Ozone Standard (Rule 4- 57)” ”.

2. On page 40719, in § 52.2420, paragraph (c) table, under the heading “Article 57. Emission Standards for Industrial Solvent Cleaning Operations in the Northern Virginia Volatile Organic Compound Emissions Control Area, 8-hour Ozone Standard (Rule 4-57)”, the entry is corrected to read as follows:

§ 52.2420 [Corrected]

(c) * * *

State citation | Title/subject | State effective date | EPA approval date | Explanation [former SIP citation]
* * * * * * *
Article 57. Emission Standards for Industrial Solvent Cleaning Operations in the Northern Virginia Volatile Organic Compound Emissions Control Area, 8-hour Ozone Standard (Rule 4-57)
* * * * * * *
5-40-8640 | Facility and control equipment maintenance or malfunction | 2/1/2016 | 7/20/2023, [INSERT FEDERAL REGISTER CITATION] | Added.

Adam Ortiz,
Regional Administrator, Region III.

[FR Doc. 2023-15226 Filed 7-19-23; 8:45 am]

BILLING CODE 6560-50-P